DEPARTMENT OF TRANSPORTATION

Federal Aviation Administration

14 CFR Part 39

[Docket No. FAA-2024-2319; Project Identifier AD-2024-00498-R; Amendment 39-22859; AD 2024-19-17]

RIN 2120-AA64

Airworthiness Directives; Bell Textron Inc. and Various Restricted Category Helicopters

AGENCY: Federal Aviation Administration (FAA), DOT.

ACTION: Final rule; request for comments.

SUMMARY: The FAA is adopting a new airworthiness directive (AD) for Bell Textron Inc. Model 204B, 205A, 205A-1, 205B, 210, and 212 helicopters and various restricted category helicopters with certain part-numbered tension torsion (TT) straps installed by supplemental type certificate (STC) No. SR03408CH. This AD was prompted by an accident involving failure of a TT strap. This AD requires removing the specified part-numbered TT straps from service and prohibits installing those TT straps. The FAA is issuing this AD to address the unsafe condition on these products.

DATES: This AD is effective October 11, 2024.

The FAA must receive comments on this AD by November 12, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2319; or in person at Docket Operations between 9 a.m. and 5 p.m., Monday through Friday, except Federal holidays. The AD docket contains this final rule, any comments received, and other information. The street address for Docket Operations is listed above.

FOR FURTHER INFORMATION CONTACT: Brian Hanley, Aviation Safety Engineer, FAA, 1801 S Airport Road, Wichita, KS 67209; phone: (847) 294-8140; email: Brian.Hanley@faa.gov.

SUPPLEMENTARY INFORMATION:

Comments Invited

The FAA invites you to send any written data, views, or arguments about this final rule. Send your comments to an address listed under the ADDRESSES section. Include “Docket No. FAA-2024-2319; Project Identifier AD-2024-00498-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Brian Hanley, Aviation Safety Engineer, FAA, 1801 S Airport Road, Wichita, KS 67209; phone: (847) 294-8140; email: Brian.Hanley@faa.gov. Any commentary that the FAA receives which is not specifically designated as CBI will be placed in the public docket for this rulemaking.

Background

This AD was prompted by an accident involving a Bell Textron Inc. Model 212 helicopter, which experienced a separation of a main rotor blade from the main rotor head and subsequent impact into terrain shortly after takeoff. Initial investigation determined the TT strap failed at 664 total hours time-in-service (TIS). Investigations into individual wire failure mechanisms are ongoing with early indications suggesting some wires possibly failed in tensile overload and others in fatigue. Bell Textron Inc. Model 204B, 205A, 205A-1, 205B, and 210 helicopters and various restricted category helicopters are also affected by this unsafe condition since the affected TT straps may also be installed on these model helicopters.

This condition, if not addressed, could result in loss of a main rotor blade and subsequent loss of control of the helicopter. The FAA is issuing this AD to address the unsafe condition on these products.

FAA's Determination

The FAA is issuing this AD because the agency determined the unsafe condition described previously is likely to exist or develop in other products of the same type designs.

AD Requirements

This AD requires removing TT straps part numbers AA-204-310-101-101, AA-204-310-101-101C, AA-204-310-101-103, and AA-204-310-101-103C installed by STC No. SR03408CH from service and prohibits installing those TT straps on any helicopter.

Interim Action

The FAA considers this AD to be an interim action. If final action is later identified, the FAA might consider further rulemaking then.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because an affected TT strap was involved in an accident in which the TT strap failed, resulting in the main rotor blade detaching from the main rotor head. Failure of an affected TT strap could occur at any time without any previous indications and result in a sudden and catastrophic condition. Thus, an urgent unsafe condition exists and the required actions must be done within 50 hours TIS, a time period of up to two months based on the average flight-hour utilization rates of these helicopters. However, a significant portion of these helicopters in the U.S. fleet are high usage helicopters, which have an increased likelihood of occurrence of a failure and will reach the compliance time within a period of approximately one week based on the average flight-hour utilization rates of these helicopters. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 120 helicopters of U.S. registry. Labor rates are estimated at $85 per work-hour. Based on these numbers, the FAA estimates that operators may incur the following costs in order to comply with this AD.

Replacing the TT straps (two TT straps per helicopter) will take 10 work-hours and parts will cost $18,000 for an estimated cost of $18,850 per helicopter and $2,262,000 for the U.S. fleet.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-19-17 Bell Textron Inc. and Various Restricted Category Helicopters: Amendment 39-22859; Docket No. FAA-2024-2319; Project Identifier AD-2024-00498-R.

(a) Effective Date

This airworthiness directive (AD) is effective October 11, 2024.

(b) Affected ADs

None.

(c) Applicability

This AD applies to the helicopters identified in paragraphs (c)(1) and (2) of this AD with tension torsion (TT) straps part-number AA-204-310-101-101, AA-204-310-101-101C, AA-204-310-101-103, or AA-204-310-101-103C installed in accordance with Supplemental Type Certificate No. SR03408CH.

(1) Bell Textron Inc. Model 204B, 205A, 205A-1, 205B, 210, and 212 helicopters, certificated in any category; and

(2) The various restricted category helicopters identified in paragraphs (c)(2)(i) through (xiii) of this AD.

(i) Model 209/AH-1G helicopters; current type certificate holders include, but are not limited to, Attack Logistics LLC.

(ii) Model AH-1S helicopters; current type certificate holders include, but are not limited to, US Helicopter, Inc.

(iii) Model HH-1K helicopters; current type certificate holders include, but are not limited to, Midwest Aerospace TC LLC.

(iv) Model SW205A-1 helicopters; current type certificate holders include, but are not limited to, Southwest Florida Aviation International, Inc.

(v) Model TH-1F helicopters; current type certificate holders include, but are not limited to, Midwest Aerospace TC LLC, Robinson Air Crane, Inc., and Tamarack Helicopters, Inc.

(vi) Model TH-1L helicopters; current type certificate holders include, but are not limited to, Bell Textron Inc., Midwest Aerospace TC LLC, and Overseas Aircraft Support, Inc.

(vii) Model UH-1A helicopters; current type certificate holders include, but are not limited to, Richards Heavylift Helo, Inc.

(viii) Model UH-1B helicopters; current type certificate holders include, but are not limited to, International Helicopters, Inc., Midwest Aerospace TC LLC, Overseas Aircraft Support, Inc., Red Tail Flying Services LLC, Richards Heavylift Helo, Inc., Southwest Florida Aviation International, Inc., and WSH, LLC.

Note 1 to paragraph (c)(2)(viii): Helicopters with an SW204 or SW204HP designation are Southwest Florida Aviation International, Inc., Model UH-1B helicopters.

(ix) Model UH-1E helicopters; current type certificate holders include, but are not limited to, Bell Textron Inc., Midwest Aerospace TC LLC, Overseas Aircraft Support, Inc., Smith Helicopters, and West Coast Fabrications.

(x) Model UH-1F helicopters; current type certificate holders include, but are not limited to, AST, Inc., California Department of Forestry, Midwest Aerospace TC LLC, Robinson Air Crane, Inc., and Tamarack Helicopters, Inc.

(xi) Model UH-1H helicopters; current type certificate holders include, but are not limited to, Arrow Falcon Exporters Inc., Global Helicopter Technology, Inc., Hagglund Helicopters, LLC, JJASPP Engineering Services, LLC., Midwest Aerospace TC LLC, Northwest Rotorcraft, LLC, Overseas Aircraft Support, Inc., Richards Heavylift Helo, Inc., Southwest Florida Aviation International, Inc., and Tamarack Helicopters, Inc.

Note 2 to paragraph (c)(2)(xi): Helicopters with an SW205 designation are Southwest Florida Aviation International, Inc., Model UH-1H helicopters.

(xii) Model UH-1L helicopters; current type certificate holders include, but are not limited to, Bell Textron Inc., Midwest Aerospace TC LLC, and Overseas Aircraft Support, Inc.

(xiii) Model UH-1P helicopters; current type certificate holders include, but are not limited to, Midwest Aerospace TC LLC and Robinson Air Crane, Inc.

(d) Subject

Joint Aircraft System Component (JASC) Code 6700, Rotorcraft flight control.

(e) Unsafe Condition

This AD was prompted by an accident involving failure of a TT strap, which resulted in the main rotor blade detaching from the main rotor head. The FAA is issuing this AD to address failure of a TT strap. The unsafe condition, if not addressed, could result in loss of a main rotor blade and subsequent loss of control of the helicopter.

(f) Compliance

Comply with this AD within the compliance times specified, unless already done.

(g) Required Actions

(1) Remove the TT straps from service and replace them with airworthy TT straps at the compliance time required by paragraphs (g)(1)(i) or (ii) of this AD, as applicable.

(i) For TT straps that as of the effective date of this AD have accumulated 350 or more total hours time-in-service (TIS) since first installation on any helicopter, within 50 hours TIS after the effective date of this AD.

(ii) For TT straps that as of the effective date of this AD have accumulated less than 350 total hours TIS since first installation on any helicopter, before the TT straps accumulate 400 total hours TIS since first installation on any helicopter.

(2) As of the effective date of this AD, do not install the TT straps identified in the introductory text of paragraph (c) of this AD on any helicopter.

(h) Special Flight Permit

Special flight permits are prohibited.

(i) Alternative Methods of Compliance (AMOCs)

(1) The Manager, Central Certification Branch, FAA, has the authority to approve AMOCs for this AD, if requested using the procedures found in 14 CFR 39.19. In accordance with 14 CFR 39.19, send your request to your principal inspector or local Flight Standards District Office, as appropriate. If sending information directly to the manager of the Central Certification Branch, send it to the attention of the person identified in paragraph (j) of this AD. Information may be emailed to: AMOC@faa.gov.

(2) Before using any approved AMOC, notify your appropriate principal inspector, or lacking a principal inspector, the manager of the local flight standards district office/certificate holding district office.

(j) Additional Information

For more information about this AD, contact Brian Hanley, Aviation Safety Engineer, FAA, 1801 S Airport Road, Wichita, KS 67209; phone: (847) 294-8140; email: Brian.Hanley@faa.gov.

(k) Material Incorporated by Reference

None.

Issued on September 23, 2024.
Steven W. Thompson,
Acting Deputy Director, Compliance & Airworthiness Division, Aircraft Certification Service.

[FR Doc. 2024-22095 Filed 9-23-24; 4:15 pm]

BILLING CODE 4910-13-P